DEPARTMENT OF HEALTH AND HUMAN SERVICES

Chronic Fatigue Syndrome Advisory Committee

AGENCY: Department of Health and Human Services, Office of the Secretary.

ACTION: Notice.

SUMMARY: As stipulated by the Federal Advisory Committee Act, the Department of Health and Human Services is hereby giving notice that the Chronic Fatigue Syndrome Advisory Committee (CFSAC) will hold a meeting. The meeting will be open to the public.

DATES: The meeting will be held on Monday, June 21, 2004, from 9 am to 5 pm.

ADDRESSES: Department of Health and Human Services, Hubert H. Humphrey Building, 200 Independence Avenue, SW., Room 505A, Washington, DC 20201.

FOR FURTHER INFORMATION, CONTACT: Dr. Larry E. Fields, Executive Secretary, Chronic Fatigue Syndrome Advisory Committee, Department of Health and Human Services, Hubert H. Humphrey Building, 200 Independence Avenue, SW., Room 719H, Washington, DC 20201; (202) 690-7694.

SUPPLEMENTARY INFORMATION: CFSAC was established on September 5, 2002, to replace the Chronic Fatigue Syndrome Coordinating Committee. CFSAC was established to advise, consult with, and make recommendations to the Secretary, through the Assistant Secretary for Health, on a broad range of topics including (1) the current state of knowledge and research about the epidemiology and risk factors relating to chronic fatigue syndrome, and identifying potential opportunities in these areas; (2) current and proposed diagnosis and treatment methods for chronic fatigue syndrome; and (3) development and implementation of programs to inform the public, health care professionals, and the biomedical, academic, and research communities about chronic fatigue syndrome advances.

The tentative agenda for this meeting is as follows:

9 a.m.—Chairperson

Call to Order

Request for Roll Call

Introductions and Opening Remarks

Approval of the Minutes of March 22nd, 2004

Discussion

9:20 a.m.—Executive Secretary

Roll Call

Summary of Public Comments

Operational Matters

Discussion

9:35 a.m.—Invited Speaker

CFS and the ICD-9-CM and ICD-10-CM codes

Donna Pickett, RHIA

Medical Classification Administrator

National Center for Health Statistics, NCHS/CDC/HHS

Discussion

10:30 a.m.—Break

10:45 a.m.—Invited Organizational Updates

Dr. Dharam V. Ablashi

American Association for Chronic Fatigue Syndrome (AACFS)

7th International Conference on CFS/FM and other activities

K. Kimberly McCleary

CFIDS Association of America

Public and Provider Attitudes

Jill McLaughlin

National CFIDS Foundation, Inc.

Patient Issues

Discussion

11:15 a.m.—Ex Officio Members

Requested follow-ups

Status of Departmental and broader CFS-related efforts

Discussion

11:30 a.m.—Public Comment

12 Noon—Lunch Break

1 p.m. Subcommittee Updates

Disabilities: Lyle Lieberman, Chair

Education: Dr. Roberto Patarca, Chair

Research: Dr. Nahid Mohagheghpour, Chair

3 p.m. Break

3:15 p.m. Development of Recommendations

Other CFS-related Matters

4 p.m. Public Comment

4:30 p.m. Summary

Action Steps

Timelines

5 p.m. Adjournment

Public attendance at the meeting is limited to space available. Individuals must provide a photo ID for entry into the meeting. Individuals who plan to attend and need special assistance, such as sign language interpretation or other reasonable accommodations, should notify the designated contact person. Members of the public will have the opportunity to provide comments at the meeting. Pre-registration is required for public comment by June 14, 2004. Any individual who wishes to participate in the public comment session should call the telephone number listed in the contact information to register. Public comment will be limited to five minutes per speaker. Any members of the public who wish to have printed material distributed to CFSAC members should submit materials to the Executive Secretary, CFSAC, whose contact information is listed above prior to close of business June 14, 2004.

Dated: May 28, 2004.
Larry E. Fields,
Executive Secretary, Chronic Fatigue Syndrome Advisory Committee.

[FR Doc. 04-12800 Filed 6-4-04; 8:45 am]

BILLING CODE 4150-28-P